FEDERAL COMMUNICATIONS COMMISSION

47 CFR Part 73

[DA 00-1521; MM Docket No. 00-57; RM-9825]

Radio Broadcasting Services; Gadsden and Springville, AL

AGENCY: Federal Communications Commission.

ACTION: Proposed rule; dismissal.

SUMMARY: This document dismisses a petition filed on behalf of Capstar Royalty II Corporation (now Capstar TX Limited Partnership), licensee of Station WQEN(FM), Channel 279C1, Gadsden, Alabama, proposing the substitution of Channel 279C for Channel 279C1 at Gadsden, the reallotment of Channel 279C to Springville, Alabama, and modification of its license accordingly. Petitioner withdrew its interest in pursuing the proposal. See 65 FR 20791, April 18, 2000.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 00-57, adopted June 28, 2000 , and released July 7, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Federal Communications Commission.
John A. Karousos,
Chief, Allocations Branch, Policy and Rules Division, Mass Media Bureau.

[FR Doc. 00-18760 Filed 7-24-00; 8:45 am]

BILLING CODE 6712-01-P